DEPARTMENT OF COMMERCE

National Oceanic and Atmospheric Administration

[I.D. 060705D]

Gulf of Mexico Fishery Management Council; Public Meetings

AGENCY: National Marine Fisheries Service (NMFS), National Oceanic and Atmospheric Administration (NOAA), Commerce.

ACTION: Notice of a public conference call meeting.

SUMMARY: The Gulf of Mexico Fishery Management Council (Council) will convene its Charterboat Advisory Panel (AP) via conference call to review the “Draft Amendment to the FMPs for Reef Fish (Amendment 25) and Coastal Migratory Pelagics (CMP) (Amendment 17) for extending the Charter Vessel/Headboat Permit Moratorium.”

DATES: The conference call will be held on June 30, 2005. The conference call will begin at 10 a.m. EDT and conclude no later than 11 a.m. EDT.

ADDRESSES: The meeting will be held via conference call and listening stations will be available. For specific locations see SUPPLEMENTARY INFORMATION.

Council address: Gulf of Mexico Fishery Management Council, 3018 North U.S. Highway 301, Suite 1000, Tampa, FL 33619.

FOR FURTHER INFORMATION CONTACT: Mr. Stu Kennedy, Fishery Biologist, Gulf of Mexico Fishery Management Council; telephone: (813) 228-2815.

SUPPLEMENTARY INFORMATION: The Gulf of Mexico Fishery Management Council (Council) will convene its Charterboat AP to review the Draft Amendment to the FMPs for Reef Fish (Amendment 25) and Coastal Migratory Pelagics (Amendment 17) for extending the Charter Vessel/Headboat Permit Moratorium. Amendments establishing the charter vessel/headboat permit moratorium for the CMP fishery and the Reef Fish fishery were approved by NOAA Fisheries on May 6, 2003, and implemented on June 16, 2003 (68 FR 26280). The intended effect of these Amendments was to cap the number of for-hire vessels operating in these two fisheries at the current level (as of March 29, 2001) while the Council evaluated whether limited access programs were needed to constrain effort. In this amendment, the Council is considering allowing the permit to expire on June 16, 2006 or extending the moratorium on for-hire Reef Fish and CMP permits for a finite period of time or indefinitely.

Listening stations are available at the following locations:

The Gulf Council office (see ADDRESSES), and the following NMFS offices:

Galveston, TX 4700 Avenue U, Galveston, TX 77551, Rhonda O'Toole, 409-766-3500;

St. Petersburg, FL 263 13th Avenue South, St. Petersburg, FL 33701, Andy Strelcheck, 727-824-5374;

Pascagoula, MS 3209 Frederic Street, Pascagoula, MS 39567, Cheryl Hinkel, 228-769-9200; and

Panama City, FL 3500 Delwood Beach Road, Panama City, FL 32408, Bob Allman, 850-324-6541.

A copy of the Amendment and related materials can be obtained by calling the Council office at (813) 228-2815.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Dawn Aring at the Council (see ADDRESSES) by June 23, 2005.

Dated: June 8, 2005.
Emily Menashes,
Acting Director, Office of Sustainable Fisheries, National Marine Fisheries Service.

[FR Doc. E5-3043 Filed 6-10-05; 8:45 am]

BILLING CODE 3510-22-S